Proclamation 7522 of February 1, 2002

National African American History Month, 2002

By the President of the United States of America

A Proclamation

During these extraordinary times, America looks forward to new challenges and opportunities with a reinvigorated sense of unity and common purpose. We are a strong and vibrant Nation, thanks to the creativity, fortitude, and resilience of people of every race and background. During National African American History Month, we celebrate the many achievements and contributions made by African Americans to our economic, cultural, spiritual, and political development.

In 1915, Dr. Carter Godwin Woodson founded The Association for the Study of Negro Life and History. Through that Association, he began pressing for the establishment of Negro History Week as a way to bring national attention to the accomplishments of African Americans. He hoped to neutralize the apparent distortions in Black history and to provide a more objective and scholarly balance to American and World history.

Dr. Woodson's dream became a reality in 1926. He chose the second week of February for the observance because of its proximity to the birthdays of Abraham Lincoln and Frederick Douglass, two individuals whom Dr. Woodson felt had dramatically affected the lives of African Americans. And in 1976, the Association succeeded in expanding the observance, which then became Black History Month.

The theme of National African American History Month for 2002 is “The Color Line Revisited: Is Racism Dead?” The observance calls our Nation's attention to the continued need to battle racism and to build a society that fully lives up to its democratic ideals. This commitment includes ensuring a high-quality education for all Americans, so that no child is left behind, and challenges us to continue to rebuild and restore our communities, to fight crime and violence, and to pursue equal opportunity and equal justice in every part of our society. At the same time, the United States must look beyond its borders and take an active role in helping to alleviate poverty, stimulate economic growth and trade, enhance democracy, and combat HIV/AIDS in Africa.

This annual event gives all Americans a chance to recognize and commemorate the global history of people of African descent. As we celebrate National African American History Month, I join with all Americans in celebrating our diverse heritage and culture and continuing our efforts to create a world that is more just, peaceful, and prosperous for all.

NOW, THEREFORE, I, GEORGE W. BUSH, President of the United States of America, by virtue of the authority vested in me by the Constitution and laws of the United States, do hereby proclaim February 2002 as National African American History Month. I call upon public officials, educators, librarians, and all of the people of the United States to observe this month with appropriate programs and activities that highlight and honor the myriad contributions of African Americans.

IN WITNESS WHEREOF, I have hereunto set my hand this first day of February, in the year of our Lord two thousand two, and of the Independence of the United States of America the two hundred and twenty-sixth.

B

[FR Doc. 02-3001

Filed 2-5-02; 8:45 am]

Billing code 3195-01-P